ENVIRONMENTAL PROTECTION AGENCY

[EPA-HQ-OPPT-2007-1081; FRL-8351-1]

Agency Information Collection Activities; Proposed Collection; Comment Request; Tier 1 Screening of Certain Chemicals Under the Endocrine Disruptor Screening Program (EDSP); EPA ICR No. 2249.01, OMB Control No. 2070-new; Extension of Comment Period

AGENCY: Environmental Protection Agency (EPA).

ACTION: Notice; extension of comment period.

SUMMARY: EPA issued a notice in the Federal Register of December 13, 2007, announcing EPA's plan to submit a request for a new Information Collection Request (ICR) to the Office of Management and Budget (OMB). This ICR is entitled: “Tier 1 Screening of Certain Chemicals Under the Endocrine Disruptor Screening Program (EDSP)” and identified by EPA ICR No. 2249.01 and OMB Control No. 2070-new. The December 13, 2007 document provided for a 60 day public comment period ending February 11, 2008. EPA received several requests from the public to extend this comment period. This document extends the comment period for 30 days, from February 11, 2008, to March 12, 2008.

DATES: Comments, identified by docket identification (ID) number EPA-HQ-OPPT-2007-1081, must be received on or before March 12, 2008.

ADDRESSES: Follow the detailed instructions as provided under ADDRESSES in the Federal Register document of December 13, 2007.

FOR FURTHER INFORMATION CONTACT: William Wooge, Office of Science Coordination and Policy (7201M), Environmental Protection Agency, 1200 Pennsylvania Ave., NW., Washington, DC 20460-0001; telephone number: (202) 564-8476; e-mail address: wooge.william@epa.gov.

SUPPLEMENTARY INFORMATION: This document extends the public comment period established in the Federal Register of December 13, 2007 (72 FR 70839) (FRL-8155-8). In that document, EPA solicited comments and information on its request for a new ICR entitled “Tier 1 Screening of Certain Chemicals Under the Endocrine Disruptor Screening Program (EDSP).” On December 17, 2007, EPA held a workshop to discuss the ICR. EPA intends to convene a second half-day public meeting to discuss this ICR and answer questions from the public. A separate Federal Register document will announce the details of the meeting. EPA is hereby extending the comment period, which was set to end on February 11, 2008, to March 12, 2008.

To submit comments, or access the public docket, please follow the detailed instructions as provided under ADDRESSES in the December 13, 2007 Federal Register document. If you have questions, consult the person listed under FOR FURTHER INFORMATION CONTACT.

List of Subjects

Environmental protection, Reporting and recordkeeping requirements.

Dated: January 30, 2008.
James B. Gulliford,
Assistant Administrator, Office of Prevention, Pesticides and Toxic Substances.

[FR Doc. E8-2169 Filed 2-5-08; 8:45 am]

BILLING CODE 6560-50-S